DEPARTMENT OF TRANSPORTATION

Federal Motor Carrier Safety Administration

[Docket No. FMCSA-2020-0122]

Parts and Accessories Necessary for Safe Operation; Exemption Renewal for Grote Industries, LLC

AGENCY: Federal Motor Carrier Safety Administration (FMCSA), Department of Transportation (DOT).

ACTION: Notice of final disposition; renewal of exemption.

SUMMARY: FMCSA announces its final decision to renew an exemption requested by Grote Industries, LLC (Grote) to allow motor carriers to use Grote's amber brake-activated auxiliary pulsating lamp on the rear of their commercial motor vehicles (CMVs) in addition to the steady-burning brake lamps required by the Federal Motor Carrier Safety Regulations (FMCSRs). The exemption is renewed for 5 years, unless revoked earlier.

DATES: This renewed exemption is effective from December 3, 2025, and expires on December 2, 2030.

FOR FURTHER INFORMATION CONTACT: Mr. David Sutula, Chief, FMCSA Vehicle and Roadside Operations Division, Office of Carrier, Driver, and Vehicle Safety Standards; (202) 366-9209; MCPSV@dot.gov. If you have questions on viewing or submitting material to the docket, call Dockets Operations at (202) 366-9826.

SUPPLEMENTARY INFORMATION:

I. Public Participation

Viewing Comments and Documents

To view any documents mentioned as being available in the docket, go to https://www.regulations.gov/docket/FMCSA-2020-0122/document and choose the document to review. To view comments, click this notice, then click “Browse Comments.” If you do not have access to the internet, you may view the docket online by visiting Dockets Operations on the ground floor of the DOT West Building, 1200 New Jersey Avenue SE, Washington, DC 20590-0001, between 9 a.m. and 5 p.m. ET, Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analyses. The Agency must also provide an opportunity for public comment on the request.

The Agency reviews safety analyses and public comments submitted and determines whether granting the exemption would likely achieve a level of safety equivalent to, or greater than, the level that would be achieved absent such exemption, pursuant to the standard set forth in 49 U.S.C. 31315(b)(1). The Agency must publish the decision in the Federal Register (49 CFR 381.315(b)). If granted, the notice will identify the regulatory provision from which the applicant will be exempt and the effective period and will explain all terms and conditions of the exemption (49 CFR 381.315(c)(1)). If the exemption is denied, the notice will explain the reason for the denial (49 CFR 381.315(c)(2)). The exemption may be renewed (49 CFR 381.300(b)).

III. Background

Current Regulatory Requirements

Section 393.25(e) of the FMCSRs requires all exterior lamps (both required lamps and any additional lamps) to be steady burning except turn signal lamps, hazard warning signal lamps, school bus warning lamps, amber warning lamps or flashing warning lamps on tow trucks and CMVs transporting oversized loads, and warning lamps on emergency and service vehicles authorized by State or local authorities.

IV. Application for Renewal of Exemption

The renewal application from Grote was described in detail in a Federal Register notice on January 17, 2025, (90 FR 6046) and will not be repeated here as the facts have not changed since that time.

V. Public Comments

The Agency received eight comments to the public docket, six in support of the exemption and two opposing it.

Several organizations expressed strong support for the renewal of the exemption, citing the safety benefits observed in real-world applications. Amazon and Schneider National reported significant reductions in rear-end collisions after equipping their fleets with Grote's amber auxiliary brake-activated pulsating lamps. These organizations commented how the technology has enhanced visibility, improving the safety of both drivers and the general public. Additionally, the American Trucking Associations emphasized the need for innovative safety solutions and believes that the data gathered from these lamps could help pave the way for integrating such technologies into standard industry practices. Overall, proponents commented that the lamps have proven to enhance safety and reduce accident severity, making the exemption a worthwhile measure.

Two commenters questioned the effectiveness and appropriateness of the amber brake-activated pulsating lamps. One individual commented that amber flashing lights, traditionally associated with oversized loads or cautionary situations, may confuse drivers and lead to overreaction, especially in emergency braking scenarios. AWM Associates, LLC (AWM) also noted that federal regulations already require red brake lights for clear communication of a vehicle's braking status, and commented that amber lights, with no clear mandate for operation, may serve as an unnecessary addition with limited safety value. AWM believes that the exemption creates unnecessary complexity and could lead to more confusion on the road, rather than improving safety. AWM commented that regulatory changes should be made to incorporate such lights into standard safety measures rather than granting exemptions.

VI. Agency Decision

FMCSA is not aware of any evidence showing that the operation of brake-activated auxiliary pulsating lamps on trailers and van body trucks in accordance with the conditions of the original exemption has resulted in any degradation in safety. FMCSA acknowledges the concerns that the use of amber brake-activated pulsating warning lamps may lead to confusion among drivers; however, the available data reported by the petitioner indicates that despite any potential for confusion among drivers, the auxiliary brake-activated lamps are associated with improvements in both crash frequency and outcomes for the CMVs equipped with the technology. FMCSA believes that the FMCSA and NHTSA research programs examining the ability of alternative rear-signaling systems to reduce the frequency and severity of rear-end crashes provide a sufficient basis to conclude that implementation of amber brake-activated auxiliary pulsating warning lamps on the rear of trailers and van body trucks, in addition to the steady-burning brake lamps required by the regulations, is likely to achieve a level of safety that is equivalent to, or greater than, the level of safety achieved without the exemption.

Therefore, for the reasons discussed above and in the prior notice granting the original exemption request, FMCSA concludes that renewing the exemption on the terms and conditions set forth in this exemption renewal decision, will likely achieve a level of safety that is equivalent to, or greater than, the level of safety achieved without the exemption.

VII. Exemption Decision

A. Grant of Exemption

FMCSA renews the exemption for five (5) years subject to the terms and conditions of this decision. The exemption from the requirements of 49 CFR 393.25(e) is effective December 3, 2025, through December 2, 2030, 11:59 p.m. ET.

During the exemption period, motor carriers may install Grote's auxiliary brake-activated pulsating warning lamps on the rear of trailers and van body trucks, in addition to the steady-burning brake lamps required by the FMCSRs.

B. Terms and Conditions

1. This exemption applies only to motor carriers operating trailers and van body trucks equipped with Grote's auxiliary brake-activated pulsating lamps under the terms herein.

2. Motor carriers operating under this exemption may use Grote's auxiliary brake-activated warning lamps in the following configurations on trailers and van body trucks:

a. Upper Pair: Two auxiliary brake-activated warning lamps centered about the trailer's centerline, positioned 6-12 inches from the centerline of the outermost identification (ID) lamps, and collinear with the three-ID-lamp cluster.

b. Single Lower Lamp: One auxiliary brake-activated warning lamp centrally located on or below the rear sill, collinear with the stop/tail/turn lamps.

c. Upper Pair + Single Lower Lamp: Both the upper pair (as described in (1)) and a single auxiliary brake-activated warning lamp (as described in (2)).

d. Lower Pair: Two auxiliary brake-activated warning lamps centered about the trailer's centerline, located on or below the rear sill.

e. Upper Pair + Lower Pair: Both the upper pair (as described in (1)) and the lower pair (as described in (4)).

3. The Grote auxiliary brake-activated pulsating lamps used under this exemption must:

a. Be amber in color and function as a Class II strobe (pulsate) for up to four seconds when the brake is applied.

b. Transition to a steady red for the duration of the brake circuit activation.

c. Remain off when the brake circuit is inactive.

d. Be in addition to the steady-burning brake lamps required by the FMCSRs.

4. Grote is required to provide a list of the USDOT numbers of the motor carriers using its auxiliary brake-activated pulsating lamps to MCPSV@dot.gov on an annual basis.

5. Grote must meet with FMCSA on request to answer questions regarding reporting requirements provided under the exemption.

VIII. Preemption

In accordance with 49 U.S.C. 31315(d), as implemented by 49 CFR 381.600, during the period this exemption is in effect, no State shall enforce any law or regulation that conflicts with or is inconsistent with this exemption with respect to a person operating under the exemption. States may, but are not required to, adopt the same exemption with respect to operations in intrastate commerce.

IX. Termination

The exemption will be rescinded if: (1) Grote or motor carriers operating under the exemption fail to comply with the terms and conditions of the exemption; (2) the exemption has resulted in a lower level of safety than was maintained before it was granted; or (3) continuation of the exemption would not be consistent with the goals and objectives of 49 U.S.C. 31136(e) and 31315(b).

Interested parties possessing information that would demonstrate that the use of Grote's amber brake-activated pulsating lamp on the rear of the trailer and van body trucks in addition to the steady-burning brake lamps required by the FMCSRs is not achieving the requisite statutory level of safety should immediately notify FMCSA by email at MCPSV@DOT.GOV. The Agency will evaluate any such information and, if safety is being compromised or if the continuation of the exemption is not consistent with the goals and objectives of 49 U.S.C. 31136 or chapter 313, will take immediate steps to revoke the exemption.

Derek D. Barrs,
Administrator.

[FR Doc. 2025-19937 Filed 11-14-25; 8:45 am]

BILLING CODE 4910-EX-P